SECURITIES AND EXCHANGE COMMISSION

[File No. 500-1]

Clean Energy and Power, Inc., Order of Suspension of Trading

January 27, 2011.

It appears to the Securities and Exchange Commission that there is a lack of current and accurate information concerning the securities of Clean Energy and Power, Inc. (“Clean Energy”) because it has not filed any periodic reports since the period ended September 30, 2007. Clean Energy is quoted on the Pink Sheets operated by OTC Markets Group Inc. under the ticker symbol KEPI.

The Commission is of the opinion that the public interest and the protection of investors require a suspension of trading in the securities of the above-listed company, and any equity securities of any entity purporting to succeed to this issuer.

Therefore, it is ordered, pursuant to Section 12(k) of the Securities Exchange Act of 1934, that trading in the securities of the above-listed company, and any equity securities of any entity purporting to succeed to this issuer, is suspended for the period from 9:30 a.m. EST on January 27, 2011, through 11:59 p.m. EST on February 9, 2011.

By the Commission.
Elizabeth M. Murphy,
Secretary.

[FR Doc. 2011-2159 Filed 1-27-11; 4:15 pm]

BILLING CODE 8011-01-P